ENVIRONMENTAL PROTECTION AGENCY

[EPA-HQ-OPPT-2023-0105; FRL-10559-01-OCSPP]

Agency Information Collection Activities; Proposed Renewal Collection and Request for Comment; Regulation of Persistent, Bioaccumulative, and Toxic Chemicals Under TSCA Section 6(h)

AGENCY: Environmental Protection Agency (EPA).

ACTION: Notice.

SUMMARY: In compliance with the Paperwork Reduction Act (PRA), this document announces the availability of and solicits public comment on the following Information Collection Request (ICR) that EPA is planning to submit to the Office of Management and Budget (OMB): “Regulation of Persistent, Bioaccumulative, and Toxic Chemicals under TSCA Section 6(h),” identified by EPA ICR No. 2599.03 and OMB Control No. 2070-0213. This ICR represents a renewal of an existing ICR that is currently approved through January 31, 2024. Before submitting the ICR to OMB for review and approval under the PRA, EPA is soliciting comments on specific aspects of the information collection that is summarized in this document. The ICR and accompanying material are available in the docket for public review and comment.

DATES: Comments must be received on or before May 9, 2023.

ADDRESSES: Submit your comments, identified by docket identification (ID) number EPA-HQ-OPPT-2023-0105 through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Katherine Sleasman (7602M), Office of Program Support, Environmental Protection Agency, 1200 Pennsylvania Ave. NW, Washington, DC 20460-0001; telephone number: (202) 566-1204; email address: sleasman.katherine@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25 people) on examples of specific additional efforts that EPA could make to reduce the paperwork burden for very small businesses affected by this collection.

II. What information collection activity or ICR does this action apply to?

Title: Regulation of Persistent, Bioaccumulative, and Toxic Chemicals under TSCA Section 6(h).

EPA ICR No.: 2599.03.

OMB Control No.: 2070-0213.

ICR status: This ICR is currently approved through January 31, 2024. Under the PRA, an agency may not conduct or sponsor, and a person is not required to respond to, a collection of information, unless it displays a currently valid OMB control number. The OMB control numbers for EPA's regulations in Title 40 of the Code of Federal Regulations (CFR), after appearing in the Federal Register when approved, are displayed either by publication in the Federal Register or by other appropriate means, such as on the related collection instrument or form, if applicable. The display of OMB control numbers for certain EPA regulations is consolidated in 40 CFR part 9.

Abstract: This ICR covers the information collection activities associated with the prohibitions and restrictions on the following five persistent, bioaccumulative, and toxic (PBT) chemical substances: decabromodiphenyl ether (decaBDE) (Chemical Abstract Services Number (CASRN) 1163-19-5), phenol, isopropylated phosphate (3:1) (PIP (3:1)) (CASRN 68937-41-7), 2,4,6-tris(tert-butyl)phenol (2,4,6-TTBP) (CASRN 732-26-3), pentachlorothiophenol (PCTP) (CASRN 133-49-3), and hexachlorobutadiene (HCBD) (CASRN 87-68-3). Specifically, the information collection activities associated with the downstream notification of the prohibitions in the rule for PIP (3:1) and the rule familiarization activities and recordkeeping requirement for all five PBT chemicals.

Burden statement: The average annual public reporting and recordkeeping burden for this collection of information is estimated to 0.74 hours per response. Burden is defined in 5 CFR 1320.3(b).

The ICR, which is available in the docket along with other related materials, provides a detailed explanation of the collection activities and the burden estimate that is only briefly summarized here:

Respondents/affected entities: Entities potentially affected are those that manufacture, process, distribute in commerce or use decabromodiphenyl ether (decaBDE), phenol, isopropylated phosphate (3:1) (PIP (3:1)), 2,4,6-tris(tert-butyl)phenol (2,4,6-TTBP), pentachlorothiophenol (PCTP), hexachlorobutadiene (HCBD), or products or articles containing these chemicals.

Respondent's obligation to respond: Mandatory per TSCA section 6(h) and 40 CFR part 751.

Frequency of response: Occasional.

Total estimated number of potential respondents: 73.

Total estimated average number of responses for each respondent: 1.

Total estimated annual burden hours: 53 hours.

Total estimated annual costs: $4,299 (includes an estimated burden cost of $4,299 and an estimated cost of $0 for capital investment or maintenance and operational costs).

III. Are there changes in the estimates from the last approval?

There is decrease of 33 hours in the total estimated annual respondent burden compared with that identified in the ICR currently approved by OMB. This decrease reflects EPA's updating of burden estimates and represents an adjustment. It results from the fact that some firms are no longer expected to incur recordkeeping and downstream notification costs since they are prohibited from using the chemical during the period this ICR covers.

In addition, EPA has updated this Supporting Statement to reflect the OMB request that EPA move towards using the 18-question format for ICR Supporting Statements that is used by other federal agencies and departments based on the submission instructions established by OMB in 1995. The 18-question format will replace the alternate format developed by EPA and OMB prior to 1995. The Agency does not expect the change in format to result in substantive changes to the presentation of the information collection activities or related estimated burden and costs. EPA welcomes comment on this new format in the context of this ICR.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: March 6, 2023.
Michal Freedhoff,
Assistant Administrator, Office of Chemical Safety and Pollution Prevention.

[FR Doc. 2023-04872 Filed 3-9-23; 8:45 am]

BILLING CODE 6560-50-P